DEPARTMENT OF STATE

[Public Notice: 6148]

30-Day Notice of Proposed Information Collection: DS-160, Nonimmigrant Visa Electronic Application, OMB 1405-XXXX

ACTION: Notice of request for public comment and submission to OMB of proposed collection of information.

SUMMARY: The Department of State has submitted the following information collection request to the Office of Management and Budget (OMB) for approval in accordance with the Paperwork Reduction Act of 1995.

• Title of Information Collection: Nonimmigrant Visa Electronic Application

• OMB Control Number: None

• Type of Request: New Collection

• Originating Office: Bureau of Consular Affairs, Visa Services (CA/VO)

• Form Number: DS-160

• Respondents: All nonimmigrant visa applicants

• Estimated Number of Respondents: 10 million

• Estimated Number of Responses: 10 million

• Average Hours Per Response: 75 minutes

• Total Estimated Burden: 12,500,000 hours

• Frequency: Once per visa application

• Obligation to Respond: Required to obtain benefit

DATES: Submit comments to the Office of Management and Budget (OMB) for up to 30 days from April 4, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: You may obtain copies of the proposed information collection and supporting documents from Lauren Prosnik, who may be reached at 202-663-2951.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection:

The Nonimmigrant Visa Electronic Application (DS-160) will be used to collect biographical and other information from individuals seeking a nonimmigrant visa. The consular officer uses the information collected to determine the applicant's eligibility for a visa. This collection combines questions from current information collections DS-156 (Nonimmigrant Visa Application), DS-156E (Nonimmigrant Treaty Trader Investor Application), DS-156K (Nonimmigrant Fiancé Application), DS-157 (Nonimmigrant Supplemental Visa Application), DS-158 (Contact Information and Work History Application), and DS-3052 (Nonimmigrant V Visa Application).

Methodology:

The DS-160 will be submitted electronically to the Department via the internet. The applicant will be instructed to print a confirmation page containing a bar coded record locator, which will be scanned at the time of processing. Applicants who submit the electronic application will no longer submit paper-based applications to the Department.

Dated: March 5, 2008.
Stephen A. Edson,
Deputy Assistant Secretary, Bureau of Consular Affairs, Department of State.

[FR Doc. E8-6989 Filed 4-3-08; 8:45 am]

BILLING CODE 4710-06-P